DEPARTMENT OF ENERGY

Federal Energy Regulatory Commission

[Docket No. GT02-12-000]

Enbridge Pipelines (KPC); Notice of Proposed Changes in FERC Gas Tariff

March 19, 2002.

Take notice that on March 13, 2002, Enbridge Pipelines (KPC), formerly Kansas Pipeline Company (Enbridge KPC) tendered for filing as part of its FERC Gas Tariff, First Revised Volume No. 1, Original Sheet No. 121A, to be made effective April 1, 2002.

Enbridge KPC states that the purpose of the filing was to correct an error resulting from Enbridge KPC's filing of First Revised Volume No. 1 of its FERC Gas Tariff on September 12, 2001 in FERC Docket No. GT01-32-000. The omission happened because Original Sheet No. 222 (Original Volume No. 1) was not on the FERC Fastr System, therefore, when Enbridge KPC made the changes noted above and filed it with the Commission, it did not file the General Terms and Conditions language shown on that sheet.

Enbridge KPC states that copies of its transmittal letter has been provided by First Class mail and/or electronic communication, depending on the method that such party elected to receive such copies, to all affected customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7078 Filed 3-22-02; 8:45 am]

BILLING CODE 6717-01-P